ENVIRONMENTAL PROTECTION AGENCY

40 CFR Part 52

[PA-101/178-4124a; FRL-7059-8]

Approval and Promulgation of Air Quality Implementation Plans; Pennsylvania; VOC and NOX RACT Determinations for Five Individual Sources Located in the Pittsburgh-Beaver Valley Area; Withdrawal of Direct Final Rule

AGENCY: Environmental Protection Agency (EPA).

ACTION: Withdrawal of direct final rule.

SUMMARY: Due to receipt of a letter of adverse comment, EPA is withdrawing the direct final rule approving revisions which establish reasonably available control technology (RACT) requirements for five major sources of volatile organic compounds (VOC) and oxides of nitrogen (NOX) located in the Pittsburgh-Beaver Valley ozone nonattainment area. In the direct final rule published on August 10, 2001 (66 FR 42128), EPA stated that if it received adverse comment by September 10, 2001, the rule would be withdrawn and not take effect. EPA subsequently received adverse comments from the Citizens for Pennsylvania's Future (PennFuture). EPA will address the comments received in a subsequent final action based upon the proposed action also published on August 10, 2001 (66 FR 42186). EPA will not institute a second comment period on this action.

EFFECTIVE DATE: The direct final rule is withdrawn as of September 20, 2001.

FOR FURTHER INFORMATION CONTACT: Harold A. Frankford at (215) 814-2108.

List of Subjects in 40 CFR Part 52

Environmental protection, Air pollution control, Incorporation by reference, Nitrogen dioxide, Ozone, Reporting and recordkeeping requirements.

Dated: September 14, 2001.
James W. Newson,
Acting Regional Administrator, Region III.

Accordingly, the addition of § 52.2020(c)(161) is withdrawn as of September 20, 2001.

[FR Doc. 01-23491 Filed 9-19-01; 8:45 am]

BILLING CODE 6560-50-P